DEPARTMENT OF LABOR

Office of the Assistant Secretary for Office of Disability Employment Policy

“Add Us In” Program

AGENCY: Office of Disability Employment Policy, Department of Labor.

Announcement Type: New Notice of Availability of Funds and Solicitation for Grant Applications. The full announcement is posted on http://www.grants.gov.

Funding Opportunity Number: SGA 10-05.

Key Dates: The closing date for receipt of applications is September 1, 2010 via http://www.grants.gov.

Funding Opportunity Description:

The U.S. Department of Labor (“DOL” or “Department”), Office of Disability Employment Policy (ODEP) announces the availability of approximately $2.3 million to fund up to four cooperative agreements with consortia ranging from $500,000 to $625,000. The objectives of this new initiative, Add Us In, are: (1) To increase the ability of targeted businesses to employ adults and youth with disabilities; (2) to develop and evaluate replicable models, strategies and policies that would ensure that youth and adults from targeted populations with disabilities have access to a broader range of employment and mentoring opportunities; and (3) to form and strengthen connections between targeted businesses, diversity-serving organizations, youth-serving organizations and disability-serving organizations, building a national and local network of experts skilled in serving individuals with disabilities. These objectives will be accomplished through the competitive funding of consortia tasked to design, implement, and evaluate innovative systems models that support integrated employment opportunities for people with disabilities within targeted businesses.

For the purposes of this solicitation, the target population consists of members of the following groups: African American, Asian American (including Asian Americans of West Asian decent, e.g., India, and Asian Americans of East Asian decent, e.g., Japan and Korea), Latino or Hispanic American, federally recognized Tribes and Native American communities (including American Indians, Alaska Natives, Native Hawaiians, and other Native Pacific Islanders (including American Samoan Natives)), Lesbian, Gay, Bisexual, Transgender (LGBT) individuals, and women. A targeted business is a for-profit enterprise such as a sole proprietorship, partnership, corporation, or joint venture of any kind, regardless of size, physically located in the United States or its trust territories which is at least 51 percent owned, operated and controlled on a daily basis by a United States citizen (or citizens) who are members of a target population.

The full Solicitation for Grant Application is posted on http://www.grants.gov under U.S. Department of Labor/ODEP. Applications submitted through http://www.grants.gov or hard copy will be accepted. If you need to speak to a person concerning these grants, you may telephone Cassandra Mitchell at 202-693-4570 (not a toll-free number). If you have issues regarding access to the http://www.grants.gov Web site, you may telephone the Contact Center Phone at 1-800-518-4726.

Signed at Washington, DC, this 27th day of July 2010.
Cassandra R. Mitchell,
Grant Officer.

[FR Doc. 2010-18762 Filed 7-30-10; 8:45 am]

BILLING CODE 4510-FT-P